DEPARTMENT OF ENERGY

Office of Nuclear Energy

Notice of Renewal of the Nuclear Energy Advisory Committee

Pursuant to Section 14(a)(2)(A) of the Federal Advisory Committee Act, App., and section 102-3.65, Title 41, Code of Federal Regulations, and following consultation with the Committee Management Secretariat, General Services Administration, notice is hereby given that the Nuclear Energy Advisory Committee has been renewed for a two-year period.

The Committee will provide advice to the Department of Energy's Office of Nuclear Energy on complex science and technical issues that arise in the planning, managing, and implementation of DOE's nuclear energy program. The Secretary of Energy has determined that renewal of the Nuclear Energy Advisory Committee is essential to the conduct of the Department's business and in the public interest in connection with the performance of duties imposed by law upon the Department of Energy. The Committee will continue to operate in accordance with the provisions of the Federal Advisory Committee Act (FACA) (Pub. L. 92-463), the General Services Administration Final Rule on Federal Advisory Committee Management, and other directives and instructions issued in implementation of those acts.

FOR FURTHER INFORMATION CONTACT: Ms. Rachel Samuel at (202) 586-3279.

Issued in Washington, DC on December 11, 2009.
Carol A. Matthews,
Acting Committee Management Officer.

[FR Doc. E9-30163 Filed 12-17-09; 8:45 am]

BILLING CODE P